COMMISSION ON CIVIL RIGHTS

Agenda and Notice of Public Meeting of the New Jersey Advisory Committee

Notice is hereby given, pursuant to the provisions of the rules and regulations of the U.S. Commission on Civil Rights (Commission), and the Federal Advisory Committee Act (FACA), that a planning of the New Jersey Advisory Committee to the Commission will convene by conference call at 2 p.m. and adjourn at 3 p.m. Wednesday, June 18, 2008. The purpose of the meeting is to narrow the list of possible topics for a civil rights project to be conducted over the course of the SAC's current charter. Pursuant to agency guidelines, the chair will appoint subcommittees that will make recommendations to the Committee when it meets again to select its civil rights project.

This meeting is available to the public through the following toll-free call-in number: 800 516-9896, access code: 98105. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and access code.

To ensure that the Commission secures an appropriate number of lines for the public, persons are asked to register by contacting Alfreda Greene of the Eastern Regional Office, 202-376-7533, TTY 202-376-8116 by 4:00 p.m., on June 11, 2008.

Members of the public are entitled to submit written comments. The comments must be received in the regional office by June 30, 2008. The address is 624 Ninth Street, NW., Suite 740, Washington, DC 20425. Comments may be e-mailed to agreene@usccr.gov. Records generated by this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the provisions of the rules and regulations of the Commission and FACA.

Dated in Washington, DC, May 23, 2008.
Christopher Byrnes,
Chief, Regional Programs Coordination Unit.

[FR Doc. E8-12019 Filed 5-28-08; 8:45 am]

BILLING CODE 6335-01-P